DEPARTMENT OF ENERGY

Office of Energy Efficiency and Renewable Energy

National Energy Policy; Announcement of Public Meetings

AGENCY: Office of Energy Efficiency and Renewable Energy, DOE.

ACTION: Notice of public meetings and request for comments.

SUMMARY: The recently-released National Energy Policy (NEP) recommended a review of current funding and historic performance of the Department of Energy's Office of Energy Efficiency and Renewable Energy programs. To facilitate this review, Department of Energy senior officials will receive public comments on the programs in seven regional meetings during the month of June. Comments should address: (1) The objectives of the current energy efficiency and renewable energy research, development, demonstration and deployment programs, (2) suggested potential objectives for future programs, (3) implementation of current and future programs, and (4) whether these Federal programs are achieving intended objectives.

DATES: Written comments will be accepted and must be submitted to the Department of Energy no later than 5:00 p.m. EDT, June 29, 2001. See SUPPLEMENTARY INFORMATION section for meeting dates.

ADDRESSES: Comments may be sent to: Ms. Bonny Overton, U.S. Department of Energy, Office of Energy Efficiency and Renewable Energy, EE 3.1, 1000 Independence Avenue, SW., Washington, DC 20585, or e-mail to EERENEP.comments@ee.doe.gov. To accommodate as many individuals as possible, each speaker will be limited to five minutes. In the event that time does not permit all individuals who would like to comment, several other options are available to receive public input. Forms will be available at each location to provide hand-written comments. Written comments will be accepted and must be submitted to the Department of Energy no later than 5 p.m. EDT, June 29, 2001. Written comments should be no more than four single spaced pages, using 12 pitch font and 1 inch margins. All written comments will be included in the proceedings of the seven public meetings. The Department of Energy also invites their federal partners to submit written comments. Copies of the National Energy Plan can be found on the web at www.energy.gov. For further information about EERE programs, please visit www.EREN.doe.gov.

FOR FURTHER INFORMATION CONTACT: Nancy Jeffery, 202-586-9373.

SUPPLEMENTARY INFORMATION: The following public meetings will be held from 9 a.m. to 9 p.m. From 9 a.m.-10 a.m., the Department will receive comments from public officials only.

June 12—Atlanta, Georgia—Location: Main Auditorium (Lower Level), Richard B. Russell Federal Building and Courthouse, 75 Spring Street SW, Atlanta, GA 30303

June 12—Chicago, Illinois—Location: James Benton Parson Memorial Court Room Dirksen Federal Building, Room 2525, 219 South Dearborn Street, Chicago, Illinois 60604

June 19—Boston, Massachusetts—Location: John A. Volpe National Transportation Systems Center, 55 Broadway, Kendall Square, Cambridge, MA 02142-1093

June 19—Seattle, Washington—Location: Bell Harbor International Conference Center International Promenade room, Pier 66, 2211 Alaskan Way, Seattle, WA 98121-1604

June 21—Denver, Colorado—Location: Adam's Mark Hotel Denver, 1550 Court Place Denver, Colorado 80202

June 21—Philadelphia, Pennsylvania—Location: Myerson Auditorium, 210 South 34th Street, Philadelphia, PA 19104

June 26—Washington, D.C.—Location: Washington Hilton and Towers, 1919 Connecticut Avenue, Washington, DC

Office of Energy Efficiency and Renewable Energy—List of programs

Building Equipment and Materials

The mission of the Buildings Equipment and Materials Program is to advance affordable energy efficiency improvements in building equipment and materials through a targeted program of industry cost-shared research and regulatory options.

Commercial Buildings Integration

The mission of the Commercial Buildings Integration Program is to develop new whole-building technologies and building design and operation strategies that will reduce overall energy needs and improve the quality of building energy services, including voluntary consensus building energy codes and mandatory codes for Federal buildings.

Community Energy Program

The Community Energy Program provides technical assistance, demonstrations, training, and education to communities to accelerate the use of innovative and cost-effective energy technologies, strategies, and methods. The program helps communities, towns, and cities save energy, create jobs, promote economic growth, and protect the environment through improved energy efficiency and less energy intensive building design and operation.

Energy Star Program

Using the ENERGY STAR symbol as the primary tool, identify and promote high efficiency consumer products and buildings; in partnership with EPA, manufacturers, retailers, utilities, and builders.

Residential Buildings Integration

In partnership with homebuilders, industry, States, and communities, the Residential Buildings Integration Program improves the energy efficiency in new and existing homes through R&D, demonstrations, and regulatory strategies.

State Energy Program

The State Energy Program (SEP) mission is to support States' effective, flexible capacity to promote the use of energy efficiency and renewable energy strategies for meeting energy needs in both the near and long-term future.

Weatherization Assistance Program

The Weatherization Assistance Program works to maximize the number of low-income households receiving cost-effective, energy efficient improvements while ensuring the health and safety of people served.

DUET

The Departmental Energy Management Program is administered by the Federal Energy Management Program's (FEMP) Departmental Utility and Energy Team (DUET). DUET targets FEMP services at DOE facilities to improve energy and water efficiency, promote renewable energy use, and manage utility costs in DOE's facilities and operations.

FEMP

The Office of Federal Energy Management Programs (FEMP) reduces the cost and environmental impact of the Federal government by advancing energy efficiency and water conservation, promoting the use of renewable energy, and assisting federal facilities in managing utility costs and operations, including those of the Department of Energy.

Enabling Technologies

The Industries of the Future (Crosscutting) Initiative works with IOF industry partners and suppliers to conduct cost-shared R&D on technologies that have potential applications across the nine vision industries as well as provide the immediate tools and technical assistance industry needs to expedite the implementation of energy-efficient, clean manufacturing technologies.

Financial Assistance

The OIT Financial Assistance Program helps independent inventors, small businesses, and industry who may lack the funds and/or know-how to move promising energy-saving and energy production technologies from the research bench to the marketplace.

Industrial Technology Assistance

The Industries of the Future (Crosscutting) Initiative works with IOF industry partners and suppliers to conduct cost-shared R&D on technologies that have potential applications across the nine vision industries as well as provide the immediate tools and technical assistance industry needs to expedite the implementation of energy-efficient, clean manufacturing technologies.

Vision Industries

The Industries of the Future (IOF) program develops and delivers advanced technologies and best practices to improve the energy efficiency and environmental performance of America's most energy-and waste-intensive industries. To provide the best value and optimum use of public investments, the IOF program focuses on nine major U.S. industries that account for roughly 75 percent of industrial energy use and over 75 percent of manufacturing wastes (aluminum, agriculture, chemicals, forest products, glass, metal casting, mining, steel, and petroleum).

BioPower

In partnership with industry, the Biopower Program will assist the development and utilization of biopower technologies that are clean and reliable, and competitive with conventional power systems

Distributed Energy Resources

The Distributed Energy Resources (DER) Program leads a national effort to develop and integrate the “next generation” of clean, efficient, reliable, and affordable distributed energy technologies; document the energy, economic, and environmental benefits of the expanded use of distributed energy resources and widely disseminate the findings; and implement deployment strategies, including national and international standards, that address infrastructure, energy delivery, institutional, and regulatory needs.

Geothermal Energy

The Geothermal Technology Development Program works in partnership with U.S. industry to establish geothermal energy as an economically competitive contributor to the U.S. energy supply, capable of meeting a large portion of the Nation's heat and power needs.

High Temperature Superconductivity

The High Temperature Superconductivity (HTS) R&D program investigates the properties of crystalline materials that become free of electrical resistance at the temperature of liquid nitrogen. The lack of electrical resistance makes possible electrical power systems, super-efficient generators, transformers, and transmission cables, that reduce energy losses by half and allow equipment to be half the size of present electrical systems.

Hydrogen

The mission of the Hydrogen Program is to support the research, development and validation of hydrogen technologies in production, storage and utilization. These technologies will facilitate the use of renewable energy resources, improve electrical reliability using distributed fuel cell power systems, and reduce the Nation's dependence on imported fossil fuels in the electric power generation and transportation sectors.

Hydropower

The Hydropower Program improves the technical, economic, and environmental performance of the Nation's abundant, in-place hydropower resources through collaborative research and development with industry and other Federal agencies.

International Programs

Provide diplomatic support to catalyze markets, provide technical assistance, and support U.S. Native American Tribal community on a “government to government” basis.

Solar Technologies

The Office of Solar Energy Technologies sponsors research and development (R&D) that improves the performance and reliability while reducing the cost of solar technologies that can harness the sun's energy.

Wind Energy

The Program focuses on completing the research, testing, and field verification needed by U.S. industry to fully develop advanced wind energy technologies, and on coordinating with partners and stakeholders to overcome barriers to wind energy use.

Advanced Combustion Engine R&D

The Advanced Combustion Engine R& D program develops technologies that will significantly improve the fuel efficiency of conventional piston engines while cost-effectively meeting projected emissions regulations.

Biofuels

The Biofuels Program funds research, development, and demonstration of technology to enable and support the expansion of an indigenous, integrated biomass-based industry that will reduce reliance on imported fuels; promote rural economic development; and provide for productive utilization of agricultural residues and municipal solid wastes.

Electric Vehicles R&D

The Electric Vehicles R& D program develops and validates advanced electric vehicle battery technologies that will enable full-range electric vehicles and facilitate their commercial viability.

Fuel Cell R&D

The Fuel Cell R& D Program develops highly-efficient, low and zero emission, cost-competitive vehicle fuel cell power system technologies that operate on conventional and alternative fuels.

Fuels Utilization R&D

The Fuels Utilization R&D Program, along with partners in the energy and transportation industries, pursues R&D that will provide transportation vehicles with fuel options that are cost competitive, achieve high fuel economy, and deliver low emissions.

Heavy Vehicle Systems R&D

The Heavy Vehicle Systems R&D Program sets performance targets for components and subsystems in the context of the heavy vehicle as an integrated system, and validates achievements of vehicle-level OTT objectives.

Hybrid Systems R&D

The Hybrid Systems R&D program develops advanced propulsion and ancillary system components and tests and validates them in a vehicle context.

Materials Technologies

The Materials Technologies Program supports the development of the cost-effective materials and materials manufacturing processes necessary to successfully commercialize the next generation of fuel-efficient, low-emission transportation vehicles.

Transportation Technology Assistance

The Transportation Technology Assistance Program accelerates the adoption and use of alternative-fuel and advanced-technology vehicles to help meet national energy and environmental goals.

Issued in Washington, DC on June 5, 2001.
John Sullivan,
Acting Deputy Assistant Secretary, Office of Planning, Budget and Management, Office of Energy Efficiency and Renewable Energy.

[FR Doc. 01-14584 Filed 6-8-01; 8:45 am]

BILLING CODE 6450-01-P